NATIONAL AERONAUTICS AND SPACE ADMINISTRATION

[Notice 12-029]

NASA Advisory Council; Science Committee; Planetary Science Subcommittee; Meeting

AGENCY: National Aeronautics and Space Administration.

ACTION: Notice of meeting.

SUMMARY: In accordance with the Federal Advisory Committee Act, Public Law 92-463, as amended, the National Aeronautics and Space Administration (NASA) announces a meeting of the Planetary Science Subcommittee of the NASA Advisory Council (NAC). This Subcommittee reports to the Science Committee of the NAC. The meeting will be held for the purpose of soliciting, from the scientific community and other persons, scientific and technical information relevant to program planning.

DATES: Tuesday, May 8, 2012, 8:30 a.m. to 5 p.m., and Wednesday, May 9, 2012, 8:30 a.m. to 4 p.m., Local Time.

ADDRESSES: This meeting will take place at NASA Headquarters, 300 E Street SW., Rooms 6H45 and 3H46, respectively, Washington, DC 20546.

FOR FURTHER INFORMATION CONTACT: Ms. Marian Norris, Science Mission Directorate, NASA Headquarters, Washington, DC 20546, (202) 358-4452, fax (202) 358-4118, or mnorris@nasa.gov.

SUPPLEMENTARY INFORMATION: The meeting will be open to the public up to the capacity of the room. The meeting will also be available telephonically and by WebEx. Any interested person may call the USA toll free conference call number 888-390-1271, pass code PSS, to participate in this meeting by telephone. The WebEx link is https://nasa.webex.com/, the meeting number on May 8th is 991 015 190, password PSS@May8; the meeting number on May 9th is 995 739 151, password PSS@May9. The agenda for the meeting includes the following topics:

—Status of Budgetary and Programmatic Impacts on the Planetary Science Division;

—Status of the Joint NASA-European Space Agency Mars and Outer Planets Programs;

—Status Updates from the Analysis Groups.

It is imperative that the meeting be held on these dates to accommodate the scheduling priorities of the key participants. Attendees will be requested to sign a register and to comply with NASA security requirements, including the presentation of a valid picture ID to Security before access to NASA Headquarters. Foreign nationals attending this meeting will be required to provide a copy of their passport and visa in addition to providing the following information no less than 10 working days prior to the meeting: full name; gender; date/place of birth; citizenship; visa information (number, type, expiration date); passport information (number, country, expiration date); employer/affiliation information (name of institution, address, country, telephone); title/position of attendee; and home address to Marian Norris via email at mnorris@nasa.gov or by fax at (202) 358-4118. U.S. citizens and green card holders are requested to submit their name and affiliation 3 working days prior to the meeting to Marian Norris.

Patricia D. Rausch,
Advisory Committee Management Officer, National Aeronautics and Space Administration.

[FR Doc. 2012-9114 Filed 4-16-12; 8:45 am]

BILLING CODE 7510-13-P